ENVIRONMENTAL PROTECTION AGENCY

[FRL-8202-5]

Proposed CERCLA Administrative Cashout Settlement; In the Matter of the American Lead Smelting and Refining Site—Johnson Control, Inc.

AGENCY: Environmental Protection Agency.

ACTION: Notice; request for public comment.

SUMMARY: In accordance with section 122(i) of the Comprehensive Environmental Response, Compensation, and Liability Act, as amended (“CERCLA”), 42 U.S.C. 9622(i), notice is hereby given of a proposed administrative settlement for recovery of past and projected future response costs concerning the American Lead Smelting and Refining site in Indianapolis, Indiana with the following settling party: Johnson Control, Inc. The settlement requires the settling party to pay $159,750 to the Hazardous Substance Superfund. The settlement includes a covenant not to sue the settling party pursuant to section 107(a) of “CERCLA,” 42 U.S.C. 9607(a). The settlement, however, does not provide the settling party with contribution protection. For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at Martindale Wright Public Library, 2435 North Sherman Ave., Indianapolis, Indiana and 77 West Jackson Boulevard, Chicago, Illinois 60625.

DATES: Comments must be submitted on or before August 23, 2006.

ADDRESSES: The proposed settlement is available for public inspection at the EPA's Record Center, 7th Floor, 77 West Jackson Boulevard, Chicago, Illinois. A copy of the proposed settlement may be obtained from Peter Felitti, Associate Regional Counsel, U.S. EPA, Mail Code C-14J, 77 W. Jackson Blvd., Chicago, Illinois 60604, telephone number (312) 886-5114. Comments should reference the American Lead Smelting and Refining Site in Indianapolis, Indiana and EPA Docket No. VW-06-C851 and should be addressed to Peter Felitti, Associate Regional Counsel, U.S. EPA, Mail Code C-14J, 77 W. Jackson Blvd., Chicago, Illinois 60604.

FOR FURTHER INFORMATION CONTACT: Peter Felitti, 77 West Jackson Boulevard, Chicago, Illinois 60625 or call (312) 886-5114.

Dated: July 13, 2006.
Douglas Balloti,
Acting Director, Superfund Division.

[FR Doc. E6-11705 Filed 7-21-06; 8:45 am]

BILLING CODE 6560-50-P